DEPARTMENT OF ENERGY

Notice of Intent To Prepare an Environmental Assessment for a Radiological Work and Storage Building at the Knolls Atomic Power Laboratory Kesselring Site

AGENCY: Naval Nuclear Propulsion Program, Department of Energy.

ACTION: Notice of intent to prepare an Environmental Assessment.

SUMMARY: Pursuant to the National Environmental Policy Act of 1969, as amended (NEPA) (42 U.S.C. 4321 et seq.); the Council on Environmental Quality Regulations for implementing the procedural provisions of NEPA (40 CFR parts 1500-1508); and the Department of Energy (DOE) implementing procedures (10 CFR part 1021); the Naval Nuclear Propulsion Program (NNPP) announces its intent to prepare an Environmental Assessment (EA) for a radiological work and storage building at the Knolls Atomic Power Laboratory (KAPL) Kesselring Site in West Milton, New York. A new facility is needed to streamline radioactive material handling and storage operations, permit demolition of aging facilities, and accommodate efficient maintenance of existing nuclear reactors.

DATES: Interested parties are invited to provide comments on environmental issues and concerns relative to this notice of intent (NOI) and the scope of the EA, on or before September 30, 2011, to ensure full consideration during the preparation of the EA.

ADDRESSES: Written comments may be submitted by mail to: David Delwiche, Naval Reactors Laboratory Field Office, P.O. Box 1069, Schenectady, NY 12301.

Comments provided by e-mail should be submitted to david.delwiche@nrp.doe.gov. Comments provided by phone should use 518-395-6366.

FOR FURTHER INFORMATION CONTACT: For further information about this project, contact Mr. David Delwiche, as described above.

SUPPLEMENTARY INFORMATION: The NNPP is responsible for all aspects of U.S. Navy nuclear power and propulsion. These responsibilities include design, maintenance, and safe operation of nuclear propulsion systems throughout their operational life cycles. A crucial component of this mission is to provide prospective Naval nuclear propulsion plant operators and officers with training and certification in the actual hands-on operation of a nuclear propulsion plant. Two land-based training platforms are located at the Knolls Atomic Power Laboratory Kesselring Site near West Milton, Saratoga County, New York.

The developed portion of the Kesselring Site consists of approximately 65 acres of land on an approximately 3900-acre reservation. Facilities on the site include three pressurized water naval nuclear propulsion plants, one of which has been permanently shut down, defueled, and is in the process of being dismantled. The site also contains administrative offices, machine shops, waste storage facilities, oil storage facilities, training facilities, chemistry laboratories, cooling towers and a boiler house.

The NNPP proposes to construct a new radiological work and storage building to (1) Streamline radioactive material handling and storage operations, (2) permit demolition of aging facilities, and (3) accommodate efficient maintenance of existing operating nuclear reactors. Construction of a new facility is needed to ensure that the Kesselring Site continues to meet its mission to provide the Navy highly qualified personnel to operate its nuclear powered fleet of 11 aircraft carriers and 71 commissioned submarines in support of national defense.

The NNPP proposes to construct a new facility within the existing developed area at the Kesselring Site. The proposed EA will address and evaluate the potential environmental impacts associated with operations in the new facility and demolition of existing aged radiological facilities at the Kesselring Site to provide space for the construction of a new facility. The NNPP proposes to evaluate three alternatives in the EA. These alternatives include:

Alternative 1—Build a new radiological work and storage building at the Kesselring Site.

Alternative 2—Build a temporary facility at the Kesselring Site.

No Action Alternative—Continue to use the existing facilities at the Kesselring Site.

The NNPP proposes to address the issues listed below when considering the potential environmental impacts of the proposed alternatives in the EA. This list is presented to facilitate public comment during the scoping period and is not intended to be comprehensive, or to imply any predetermination of impacts. Issues that will be addressed include:

• Potential biological impacts;

• Potential socioeconomic impacts/environmental justice;

• Potential impacts on water resources, including potential impacts on wetland areas;

• Potential impacts on cultural resources;

• Potential impacts to land use;

• Potential human health effects;

• Potential transportation impacts;

• Potential impacts on air quality;

• Potential impacts from waste management;

• Potential cumulative impacts;

• Compliance with applicable Federal and State regulations.

Issued in Washington, DC, on August 18, 2011.
John M. McKenzie,
Director, Regulatory Affairs, Naval Nuclear Propulsion Program.

[FR Doc. 2011-22269 Filed 8-30-11; 8:45 am]

BILLING CODE 6450-01-P